DEPARTMENT OF ENERGY

Federal Energy Regulatory Commission

[Docket No. CP15-144-000]

Florida Gas Transmission Company, LLC; Notice of Revised Schedule for Environmental Review of the Jacksonville Expansion Project

This notice identifies the Federal Energy Regulatory Commission staff's revised schedule for the completion of the environmental assessment (EA) for the Florida Gas Transmission Company, LLC's Jacksonville Expansion Project. The first notice of schedule, issued on November 12, 2015, identified December 18, 2015 as the EA issuance date. However, staff has revised the schedule for issuance of the EA.

Schedule for Environmental Review

Issuance of EA: January 15, 2016

90-day Federal Authorization Decision Deadline: April 14, 2016

If a schedule change becomes necessary, additional notice will be provided so that the relevant agencies are kept informed of the Project's progress.

Additional Information

In order to receive notification of the issuance of the EA and to keep track of all formal issuances and submittals in specific dockets, the Commission offers a free service called eSubscription www.ferc.gov/docs-filing/esubscription.asp.

Dated: December 16, 2015.
Nathaniel J. Davis, Sr.,
Deputy Secretary.

[FR Doc. 2015-32125 Filed 12-21-15; 8:45 am]

BILLING CODE 6717-01-P